FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)).

Comments regarding each of these applications must be received at the Reserve Bank indicated or the offices of the Board of Governors, Ann E. Misback, Secretary of the Board, 20th Street and Constitution Avenue NW, Washington, DC 20551-0001, not later than July 8, 2022.

A. Federal Reserve Bank of Kansas City (Jeffrey Imgarten, Assistant Vice President) 1 Memorial Drive, Kansas City, Missouri 64198-0001:

1. National Bank Holdings Corporation, Greenwood Village, Colorado; to merge with Community Bancorporation, Orem, Utah, and thereby indirectly acquire Rock Canyon Bank, Provo, Utah.

2. National Bank Holdings Corporation, Greenwood Village, Colorado; to merge with Bancshares of Jackson Hole, Incorporated, Jackson, Wyoming, and thereby indirectly acquire Bank of Jackson Hole, Jackson, Wyoming.

3. Old Glory Holding Company, Oklahoma City, Oklahoma; to become a bank holding company by acquiring Elmore City Bancshares, Inc., and thereby indirectly acquire First State Bank, both of Elmore City, Oklahoma.

Board of Governors of the Federal Reserve System.
Michele Taylor Fennell,
Deputy Associate Secretary of the Board.

[FR Doc. 2022-12341 Filed 6-7-22; 8:45 am]

BILLING CODE P